DEPARTMENT OF HOMELAND SECURITY

Federal Emergency Management Agency

44 CFR Part 67

[Docket No. FEMA-B-7713]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) # Depth in feet above ground.: Effective | *Elevation in feet (NGVD) +Elevation in feet (NAVD) # Depth in feet above ground.: Modified | Communities affected
Letcher County, Kentucky, and Incorporated Areas
North Fork Kentucky River | Approximately 0.29 miles downstream of Hazard Road | None | +1124 | Letcher County (Unincorporated Areas).
| Approximately 0.14 miles downstream of the CSX Railroad (City of Whitesburg Corporate Limits) | None | +1137
| Approximately 0.16 miles downstream of State Route 15 near Piedmont Drive (City of Whitesburg Corporate Limits) | None | +1161
| Approximately 0.14 miles upstream of State Route 15 near the confluence with Pert Creek | None | +1176
*National Geodetic Vertical Datum.
#Depth in feet above ground.
+North American Vertical Datum.
ADDRESSES
Letcher County (Unincorporated Areas)
Maps are available for inspection at 156 Main Street, Whitesburg, KY 41858
Send comments to The Honorable Jim Ward, Letcher County Judge Executive, 156 Main Street, Suite 107, Whitesburg, KY 41858
Trimble County, Kentucky, and Incorporated Areas
Ohio River | Oldham County Line | None | +457 | Trimble County (Unincorporated Areas)
| City of Milton Corporate Limits | None | +463
| Trimble County Limits (Downstream) | *464 | +463
| City of Milton Corporate Limits | None | +464
| Carroll County Line | None | +464
| Trimble County Limits (Upstream) | *465 | +464
*National Geodetic Vertical Datum.
#Depth in feet above ground.
+North American Vertical Datum.
ADDRESSES
City of Milton
Maps are available for inspection at 10179 U.S. Highway 421 North, Milton, KY 40045
Send comments to The Honorable Donald Oakley, Mayor, City of Milton, 10179 U.S. Highway 421 North, Milton, KY 40045
Trimble County (Unincorporated Areas):
Maps are available for inspection at 123 Church Street, Bedford, KY 40006
Send comments to The Honorable Randy Stevens, Trimble County Judge Executive, P.O. Box 251, Bedford, KY 40006
Collin County, Texas, and Incorporated Areas
Cottonwood Creek 1 | Approximately 200 feet downstream from Oxbow Creek Lane | *552 | +550 | City of Allen. City of McKinney.
| Approximately 600 feet upstream from Ash Lane | None | +712 | City of Parker. City of Plano.
Doe Branch | Approximately 2070 feet downstream from County Rd 51 | None | +624 | City of Celina. Collin County.
| County Road 94 | None | +741 | (Unincorporated Areas).
East Fork Trinity River | Approximately 3500 feet downstream from Union Pacific Railroad | None | +524 | City of Mckinney. City of Melissa.
| Approximately 1600 feet upstream from County Road 279 | None | +570 | Collin County (Unincorporated Areas).
Muddy Creek (Upper Reach) | Approximately one mile downstream from FM 544 | *486 | +487 | City of Wylie. Collin County.
| Just upstream from Stinson Road | *573 | +569 | (Unincorporated Areas).
Rowlett Creek | McDermott Drive (FM 2170) | *609 | +606 | City of Allen.
| Approximately 3000 feet upstream from Exchange Parkway | *626 | +627
Stewart Creek Tributary | Approximately 2500 feet downstream from Fossil Ridge Drive | *659 | +660 | City of Frisco.
| Approximately 2800 feet upstream from Woodstream Drive | None | +718
Watters Branch | Approximately 2250 feet downstream from Bethany Drive | *586 | +585 | City of Allen.
| State Hwy 121 | *698 | +691
West Rowlett Creek | Confluence with Rowlett Creek | *611 | +609 | City of Allen.
| Approximately 1000 feet downstream from State Hwy 121 | *638 | +633 | City of Plano Collin County (Unincorporated Areas).
*National Geodetic Vertical Datum.
#Depth in feet above ground.
+North American Vertical Datum.
ADDRESSES
City of Allen
Maps are available for inspection at One Butler Circle, Allen, TX 75013
Send comments to The Honorable Stephen Terrell, Mayor, City of Allen, 305 Century Parkway, Allen, TX 75013
City of Celina
Maps are available for inspection at City of Celina, 320 West Walnut, Celina, TX 75009
Send comments to The Honorable Corbett Howard, Mayor, City of Celina, 302 West Walnut, Celina, TX 75009
City of Frisco
Maps are available for inspection at City of Frisco, 6891 Main Street, Frisco, TX 75034
Send comments to The Honorable Michael Simpson, Mayor, City of Frisco, 6101 Frisco Square Blvd, Frisco, TX 75034
City of Lucas
Maps are available for inspection at 151 Country Club Road, Lucas, TX 75002
Send comments to The Honorable Bob Sanders, Mayor, City of Lucas, 151 Country Club Road, Lucas, TX 75002
City of McKinney
Maps are available for inspection at City of McKinney, 222 North Tennessee Street, McKinney, TX 75070
Send comments to The Honorable Bill Whitfield, Mayor, City of McKinney, 222 North Tennessee, McKinney, TX 75070
City of Melissa
Maps are available for inspection at City of Melissa, 109 U.S. Hwy 121, Melissa, TX 75454
Send comments to The Honorable David Dorman, Mayor, City of Melissa, P.O. Box 409, Melissa, TX 75454
City of Parker
Maps are available for inspection at City of Parker, 5700 East Parker Road, Parker, TX 75002
Send comments to The Honorable Jerry Tartaglino, Mayor, City of Parker, 5700 East Parker Road, Parker, TX 75002
City of Plano
Maps are available for inspection at City of Plano, 1520 Avenue K, Plano, TX 75086
Send comments to The Honorable Pat Evans, Mayor, City of Plano, P.O. Box 860358, Plano, TX 75086
City of Wylie
Maps are available for inspection at City of Wylie, 114 North Ballard Avenue, Wylie, TX 75098
Send comments to The Honorable John Mondy, Mayor, City of Wylie, 2000 Hwy 78 North, Wylie, TX 75098
Collin County (Unincorporated Areas)
Maps are available for inspection at Collin County Department of Public Works, 210 South McDonald Street, McKinney, TX 75069
Send comments to The Honorable Ron Harris, Judge, Collin County, 210 South McDonald, McKinney, TX 75069

(Catalog of Federal Domestic Assistance No. 83.100, “Flood Insurance.”)

Dated March 26, 2007.
David I. Maurstad,
Director, Mitigation Division, Federal Emergency Management Agency, Department of Homeland Security.

[FR Doc. E7-6555 Filed 4-6-07; 845 am]

BILLING CODE 9110-12-P